DEPARTMENT OF AGRICULTURE

Forest Service

36 CFR Part 230

Urban and Community Forestry Assistance Program

AGENCY: Forest Service, USDA.

ACTION: Interim final rule; request for comment.

SUMMARY: The Department is amending regulations on State and private forestry assistance to implement the Urban and Community Forestry Assistance Program as authorized by the Cooperative Forestry Assistance Act of 1978. This law authorizes the Secretary of Agriculture to provide financial, technical, and related assistance to State Foresters or equivalent State officials, as well as non-profit organizations and individuals. The Urban and Community Forestry Assistance Program is implemented through the Forest Service Manual Forest Service Grants, Cooperative Agreements, and Other Agreements Program and the Grants, Cooperative Agreements, and Other Agreements Handbook.

DATES: This rule is effective September 25, 2000. Written comments must be received by October 25, 2000.

ADDRESSES: All comments should be addressed to: Fred Deneke, Cooperative Forestry Staff (Mail Stop 1123), State and Private Forestry, Forest Service, USDA, P.O. Box 96090, Washington, DC 20090-6090.

Comments may be submitted via email to lparris@fs.fed.us. Comments also may be submitted via facsimile to (202) 205-1271. All comments, including names and addresses, when provided, will be placed in the public record and are made available for public inspection and copying.

FOR FURTHER INFORMATION CONTACT: Luz Parris-Sweetland, Cooperative Forestry Staff, telephone (202) 205-1695.

SUPPLEMENTARY INFORMATION:

Background

The Department of Agriculture is amending part 230 of Title 36 of the Code of Federal Regulations to implement the Urban and Community Forestry Assistance Program, as authorized by Section 9 of the Cooperative Forestry Assistance Act of 1978 (16 U.S.C. 2105). The law authorizes the Secretary of Agriculture to provide financial, technical, and related assistance to State Foresters or equivalent State officials, as well as non-profit organizations and individuals for cooperative urban forestry efforts. States are encouraged to provide information and technical assistance to local government units and others to plan urban forestry programs and to plant, protect, maintain, and utilize wood from trees in open spaces, greenbelts, roadside screens, parks, woodlands, curb areas, and residential developments in urban areas. The Forest Service is providing this assistance through its grants and agreements program.

Guidelines for the program are included in the document entitled, Urban and Community Forestry Program Direction. The document may be obtained by writing to the address in the ADDRESSES section.

Just Cause Statement

Because the purpose of this rule is to set forth the authority and identify the guidance used to implement the Urban and Cooperative Forestry Assistance Program and the Urban Resources Partnership initiative, the agency has determined that delay in codifying this rule to allow for a public comment period of a proposed rulemaking is unnecessary and contrary to the public interest. Furthermore, the agency believes that the identification of such authority and guidance is not controversial. Accordingly, this rule is issued as an interim final rule, effective upon the date of publication in the Federal Register. The public may provide comment on this interim final rule during the comment period as noted in the information provided in the DATES and ADDRESSES sections.

Section by Section Description of the Interim Final Rule

Section 230.20 Scope and Authority

Section 9 of the Cooperative Forestry Assistance Act of 1978 authorizes the Forest Service to provide financial, technical, and related assistance to State Foresters or equivalent State officials, as well as non-profit organizations and individuals, to implement the Urban and Community Forestry Assistance Program. This assistance promotes cooperative efforts to plan urban forestry programs designed to: maintain, expand, and preserve forest and tree cover; expand research and education efforts related to trees and forest cover, enhance technical skills and understanding of tree maintenance and practices involving cultivation of trees, shrubs, and complementary ground covers; and implement a tree planting program to complement urban tree maintenance and open space programs.

The Forest Service, under the authority of the Cooperative Forestry Assistance Act of 1978 and through the Urban and Community Forestry Assistance Program, coordinates financial, technical, and related assistance with the Natural Resources Conservation Service, another agency of the Department of Agriculture, for the Urban Resources Partnership initiative.

Section 230.21 Implementation of the Program

The Urban and Community Forestry Assistance Program is implemented through the Forest Service Grants, Cooperative Agreements, and Other Agreements Program (FSM 1580) and the Grants, Cooperative Agreements, and Other Agreements Handbook (FSH 1509.11), which provide a mechanism for processing grants and cooperative agreements.

In addition, the Forest Service coordinates the financial and technical assistance provided under the Urban Resources Partnership initiative with the Natural Resources Conservation Service. The Urban Resources Partnership initiative is intended to help enhance the Nation's urban environment and quality of life through the provision of Federal assistance to, and cooperation with, State and local governments, non-profit organizations, and others. Urban Resources Partnership activities are designed to focus on urban natural resource conservation; provide assistance in under-served areas of communities with limited resources; foster intergovernmental coordination and public-private partnerships, and build capacity by local groups in accessing and properly managing Federal financial and resource assistance. The Forest Service and Natural Resources Conservation Service implement the Urban Resources Partnership under the guidance provided in the Urban Resources Partnership National Guidance for U.S. Department of Agriculture Personnel and applicable agency and departmental procedures for Federal grants and agreements. Comment is invited on this interim rule as well as on the Urban Resources Partnership National Guidance, which is posted on the agency's website on the worldwide web at http://www.fs.fed.us.

Regulatory Impact

This interim final rule has been reviewed under USDA procedures and Executive Order 12866 on Regulatory Planning and Review. It has been determined that this is not a significant rule. This interim final rule will not have an annual effect of $100 million or more on the economy nor adversely affect productivity, competition, jobs, the environment, public health or safety, nor State or local governments. Also, this rule will not interfere with an action taken or planned by another agency or raise new legal or policy issues. In short, little or no effect on the national economy will result from this interim final rule. Finally, this action will not alter the budgetary impact of entitlements, grants, user fees, or loan programs or the rights and obligations of recipients of such programs. Accordingly, this interim final rule is not subject to OMB review under Executive order 12866.

Moreover, this interim final rule has been considered in light of the Regulatory Flexibility Act (5 U.S.C. 601 et seq.), and it has been determined that this action will not have a significant economic impact on a substantial number of small entities as defined by that Act.

Unfunded Mandates Reform

Pursuant to Title II of the Unfunded Mandates Reform Act of 1995 (2 U.S.C. 1531-1538), the Department has assessed the effects of this interim final rule on State, local, and tribal governments and the private sector. Therefore, a statement under section 202 of the Act is not required.

Environmental Impacts

Section 31.b of Forest Service Handbook 1909.15 (57 FR 43180: September 18, 1992) excludes from documentation in an environmental assessment or impact statement rules, regulations, or policies to establish Service-wide administrative procedures, program processes, or instructions. The agency's assessment is that this interim final rule falls within this category of actions and that no extraordinary circumstances exist which would require preparation of an environmental assessment or environmental impact statement.

Takings Implications

This interim final rule has been analyzed in accordance with the principles and criteria contained in Executive Order 12630 and it has been determined that the rule does not pose the risk of a taking of Constitutionally-protected private property.

Controlling Paperwork Burdens on the Public

This interim final rule does not contain any recordkeeping or reporting requirements or other information collection requirements as defined in 5 CFR part 1320 and, therefore, imposes no paperwork burden on the public. Accordingly, the review provisions of the Paperwork Reduction Act of 1995 (44 U.S.C. 3501, et seq.) and implementing regulations at 5 CFR part 1320 do not apply.

List of Subjects in 36 CFR Part 230

Forests and forest products, Grant programs—natural resources, Intergovernmental relations, Reporting and recordkeeping requirements.

Therefore, for the reasons set forth in the preamble, Part 230 of Title 36 of the Code of Federal Regulations is amended as follows:

PART 230—STATE AND PRIVATE FORESTRY ASSISTANCE

1. Revise the authority section for part 230 to read as follows:

Authority: 16 U.S.C. 2103b, 2105, 2114.

2. Add a new subpart B to read as follows:

Subpart B—Urban and Community Forestry Assistance Program
Sec.
230.20 Scope and authority.
230.21 Implementation of the program.

Subpart B—Urban and Community Forestry Assistance Program

§ 230.20 Scope and authority.

The Urban and Community Forestry Assistance Program is authorized by Section 9 of the Cooperative Forestry Assistance Act of 1978, as amended (16 U.S.C. 2105). The scope of this authority includes the provision of technical, financial, and related assistance to State and local governments, non-profits, and other members of the public to: maintain, expand, and preserve forest and tree cover; expand research and education efforts related to trees and forest cover; enhance technical skills and understanding of tree maintenance and practices involving cultivation of trees, shrubs and complementary ground covers; and implementing a tree planting program to complement urban tree maintenance and open space programs. The Secretary has delegated the authority for implementing the program to the Chief of the Forest Service under 7 CFR 2.60(a)(16).

§ 230.21 Implementation of the program.

(a) The Urban and Community Forestry Assistance Program is implemented through the Forest Service Grants, Cooperative Agreements, and Other Agreements Program (FSM 1580) and the Grants, Cooperative Agreements, and Other Agreements Handbook (FSH 1509.11). The Forest Service Manual and Handbook are available from the Forest Service internet homepage or at National Forest offices.

(b) The Forest Service, under the authority of the Cooperative Forestry Assistance Act of 1978 and through the Urban and Community Forestry Assistance Program, coordinates financial, technical, and related assistance with the Natural Resources Conservation Service for the Urban Resources Partnership initiative. The Natural Resources Conservation Service provides similar assistance through the Urban Resources Partnership initiative under the authority of the Soil Conservation and Domestic Allotment Act (16 U.S.C. 590a-590f). The Urban Resources Partnership is an initiative in which Federal agencies, in cooperation with State and local agencies, community groups, and non-governmental organizations endeavor to be more effective, responsive, and efficient in working together to protect, improve, and rehabilitate the environment in urban areas of the Nation. The Forest Service and Natural Resources Conservation Service implement the Urban Resources Partnership initiative under the “Urban Resources Partnership National Guidance for U.S. Department of Agriculture Personnel” and applicable agency and departmental procedures for Federal grants and cooperative agreements. Copies of the Guidance may be obtained from the Cooperative Forestry Staff, Forest Service, USDA, P.O. Box 96090, Washington, DC 20090-6090.

Dated: September 19, 2000.
James R. Lyons,
Under Secretary, Natural Resources and the Environment.

[FR Doc. 00-24564 Filed 9-22-00; 8:45 am]

BILLING CODE 3410-11-M